DEPARTMENT OF LABOR

Office of the Secretary

Submission for OMB Review: Comment Request

July 31, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation, including among other things a description of the likely respondents, proposed frequency of response, and estimated total burden, may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Employment Standards Administration (ESA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g. , permitting electronic submission of responses.

Agency: Employment Standards Administration.

Type of Review: Extension without change of a currently approved collection.

Title of Collection: FECA Medical Report Forms, Claim for Compensation.

OMB Control Number: 1215-0103.

Form Numbers: CA-7; CA-17; CA-16; CA-20; CA-1331; CA-1332; OWCP-5A; OWCP-5B; and OWCP-5C.

Total Estimated Number of Respondents: 294,540.

Total Estimated Annual Burden Hours: 30,493.

Total Estimated Annual Cost Burden: $132,543.

Affected Public: Individuals or households.

Description: These forms are used for filing claims for wage loss or permanent impairment due to a Federal employment-related injury, and to obtain necessary medical documentation to determine whether a claimant is entitled to benefits under the Federal Employees Compensation Act (FECA), 5 U.S.C. 8101 et seq. For additional information, see related notice published at 73 FR 20720 on April 16, 2008.

Agency: Employment Standards Administration.

Type of Review: Extension without change of a currently approved collection.

Title of Collection: Representative Payee Report, Representative Payee Report, Short Form, Physician's Medical Officer's Statement.

OMB Control Number: 1215-0173.

Form Numbers: CM-623; CM-623S; and CM-787.

Total Estimated Number of Respondents: 2,100.

Total Estimated Annual Burden Hours: 1,642.

Total Estimated Annual Cost Burden: $0.

Affected Public: Individuals or households and business or other for-profit or not-for-profit institutions.

Description: Representative Payee Report (CM-623) and Representative Payee Report, Short Form (CM-623S) are used to ensure that benefits paid to a representative payee are being used for the beneficiary's well-being. Physician's/Medical Officer's Statement (CM-787) is used to determine the beneficiary's capability to manage monthly Black Lung benefits. The Federal Mine Safety and Health Act (30 U.S.C. 901 and 922) and 20 CFR 725.506, 725.510, 725.511, and 725.513 necessitate this information collection. For additional information, see related notice published at 73 FR 18572 on April 4, 2008.

Darrin A. King,
Departmental Clearance Officer.

[FR Doc. E8-18054 Filed 8-6-08; 8:45 am]

BILLING CODE 4510-CF-P